NATIONAL AERONAUTICS AND SPACE ADMINISTRATION

[Notice (15-090)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations Committee of the NASA Advisory Council (NAC). This Committee reports to the NAC.

DATES: Wednesday, November 4, 2015, 8:30 a.m. to 3:30 p.m.; and Thursday, November 5, 2015, 9:30 a.m. to 4:30 p.m., Local Time.

ADDRESSES: NASA Headquarters, Executive Conference and ViTS Center, Room 8Q40, 300 E Street SW., Washington, DC 20546.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may dial the toll free access number 1-888-455-6733 or toll access number 1-210-839-8935, and give the operator the participant passcode: NAC HEOC, to participate in this meeting by telephone. The WebEx link is https://nasa.webex.com/, the meeting number is 990 944 162, and the password is Exploration@2015 (case sensitive).

The agenda for the meeting includes the following topics:

—Status of Exploration Systems Development

—Status of the International Space Station

—Status of Advanced Exploration Systems

—Evolvable Mars Campaign

—Status of the Human Exploration and Operations Mission Directorate

—Status of Commercial Crew

—SpaceX Commercial Crew

—Boeing Commercial Crew

Attendees will be required to sign a register and comply with NASA security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 days prior to the meeting: Full name; home address; gender; citizenship; date/city/country of birth; title, position or duties; visa information (number, type, expiration date); passport information (number, country, expiration date); employer/affiliation information (name of institution, address, country, telephone) of the position of attendee; and home address to Dr. Bette Siegel via email at bette.siegel@nasa.gov. To expedite admittance, U.S. citizens and Permanent Residents (green card holders) are requested to submit identifying information no less than 3 working days prior to the meeting to Dr. Bette Siegel via email at bette.siegel@nasa.gov. It is imperative that the meeting be held on this date to accommodate the scheduling priorities of the key participants.

Patricia D. Rausch,
Advisory Committee Management Officer, National Aeronautics and Space Administration.

[FR Doc. 2015-25741 Filed 10-8-15; 8:45 am]

BILLING CODE 7510-13-P